DEPARTMENT OF HEALTH AND HUMAN SERVICES

Administration for Children and Families

45 CFR Parts 302, 303 and 307

RIN 0970-AC01

State Parent Locator Service; Safeguarding Child Support Information: Proposed Delay of Effective Date

AGENCY: Office of Child Support Enforcement (OCSE), Administration for Children and Families (ACF), Department of Heath and Human Services

ACTION: Proposed delay of effective date.

SUMMARY: In accordance with the memorandum of January 20, 2009, from the Assistant to the President and Chief of Staff, entitled “Regulatory Review,” published in the Federal Register on January 26, 2009, the Department is seeking public comment on a contemplated delay of 60 days in the effective date of the rule entitled “State Parent Locator Service; Safeguarding Child Support Information,” published in the Federal Register on September 26, 2008 [73 FR 56422]. That rule addresses requirements for State Parent Locator Service responses to authorized location requests, State IV-D program safeguarding of confidential information, authorized disclosures of this information, and restrictions on the use of confidential data and information for child support purposes with exceptions for certain disclosures permitted by statute. The Department is considering a temporary 60-day delay in effective date to allow Department officials the opportunity for further review and consideration of new regulations, consistent with the Chief of Staff's memorandum of January 20, 2009.

The Department solicits comments specifically on the contemplated delay in effective date.

DATES: Comments must be received on or before March 12, 2009.

ADDRESSES: You may submit comments by any of the following methods:

• Federal eRulemaking Portal: http://www.regulations.gov. Follow the instructions for submitting comments.

• Mail: Interested persons are invited to submit written comments via regular postal mail to: Office of Child Support Enforcement, Administration for Children and Families, 370 L'Enfant Promenade, SW., 4th floor, Washington, DC 20447, Attention: Division of Policy; Mail Stop: ACF/OCSE/DP.

FOR FURTHER INFORMATION CONTACT: Yvette Riddick, Office of Child Support Enforcement, Division of Policy, (202) 401-4885.

Dated: February 26, 2009.
Charles E. Johnson,
Acting Secretary.

[FR Doc. E9-4527 Filed 2-27-09; 4:15 pm]

BILLING CODE 4184-01-P